DEPARTMENT OF AGRICULTURE

Office of the Secretary

National Monitoring Plan for Native Bees: Stakeholder and Public Listening Session

AGENCY: National Institute of Food and Agriculture, Office of the Secretary, USDA.

ACTION: Notice of listening session and request for stakeholder input.

SUMMARY: On behalf of the U.S. Department of Agriculture's (USDA) Pollinator Health Working Group, USDA National Institute of Food and Agriculture (NIFA) will host a Listening Session to discuss a strategy to monitor native bees in the United States.

DATES: The session will occur on Wednesday, June 28, 2017 from 8:00 a.m. to 3:30 p.m. (EST). Regardless of attendance, anyone interested may submit written comments. Those comments are due to Andrew Clark at Andrew.P.Clark@nifa.usda.gov by July 6, 2017.

ADDRESSES: The meeting will take place at the USDA South Building Café Conference Center A-C located at 1400 Independence Avenue SW., Washington, DC 20250. All participants must report to the Independence Avenue and 12th Street entrance and must present a valid government-issued I.D. (e.g., state driver's license or identification card) for admission.

RSVP and Registration: Individuals wishing to attend the event must RSVP no later than June 14, 2017 by emailing Andrew Clark at Andrew.P.Clark@nifa.usda.gov. In-person participation is limited to the first 100 individuals who register. Everyone is welcome to participate in the listening session by webinar. A few days before the event, NIFA's Web site will include details about the webinar at https://nifa.usda.gov/resources?f%5B0%5D=field_resource_type%3A18.

Onsite participants may provide a five-minute oral presentation addressing the following:

• Why is a national monitoring plan for native bees important;

• What kind of information/data is needed; and

• How would the information be used?

Registrants wishing to provide an oral presentation must provide a two to three sentence overview of the questions above. PowerPoint presentation are allowed but not required. If interested, please email your overview and PowerPoint to Andrew Clark at Andrew.P.Clark@nifa.usda.gov by 2:00 p.m., EST on June 23. Individuals scheduled to provide an oral presentation will receive notification of an assigned time by June 28. A written transcript of each presentation is required by July 6.

FOR FURTHER INFORMATION CONTACT: Andrew Clark, Program Specialist, NIFA at (202) 401-6550 or by email at Andrew.P.Clark@nifa.usda.gov.

SUPPLEMENTARY INFORMATION: Background and Purpose: Several species of animal pollinators in the United States have experienced significant population declines. The most economically important pollinators include managed bees (e.g., European honey bee, bumble bees, alfalfa leafcutter bee, etc.) as well as wild native bees. Numerous biotic and abiotic causes are responsible for these declines. Frequently reported factors include:

• Invasive pests, parasites, and diseases;

• Increased exposure to pesticides, pollutants or toxins;

• Nutritional deficits;

• Extreme weather events;

• Agricultural intensification and habitat loss;

• Reduced genetic diversity; and

• Changes in pollinator or crop management practices.

The loss of both managed and wild bees would have severe impacts on crops that depend on pollinators, and would ultimately impact food security. This loss would also negatively impact natural ecosystem services dependent on pollinators.

In June 2014, a Presidential memorandum directed the formation of a National Pollinator Task Force chaired by the U.S. Secretary of Agriculture, and the Administrator of the U.S. Environmental Protection Agency (EPA). The Task Force released a Pollinator Research Action Plan in May 2015. The Plan included actions needed to assess native bee populations, including developing baseline data, assessing trends in pollinator populations, expanding bee identification capacities, and expanding collaboration between government and university scientists.

During 2015, Senators Barbara Boxer, Kristen Gillibrand, and Diane Feinstein asked the Government Accountability Office (GAO) to review USDA and EPA efforts to protect bee health.

In their 2016 report, a key GAO findings was,

“USDA has increased monitoring of honey bee colonies managed by beekeepers to better estimate losses nationwide but does not have a mechanism in place to coordinate the monitoring of wild, native bees.”

The GAO Report recommended that USDA coordinate with members of the Pollinator Task Force to develop a monitoring plan that would:

• Establish roles and responsibilities of lead and support agencies;

• Establish shared outcomes and goals; and

• Obtain input from relevant stakeholders, such as states.

A first step towards developing a national monitoring plan, the listening session will gather input from a diverse range of people who are interested in native bee diversity, abundance, and large scale national monitoring strategies.

Prospectus: The morning portion of the listening session will include brief introductions and opening remarks by USDA leaders and relevant federal agencies followed by five-minute oral presentations. Approximately 15 minutes of questions and discussion will follow every fifth presentation. After lunch, public presentations will continue, followed by closing remarks. The NIFA Web site (www.nifa.usda.gov) will include a link to a detailed schedule approximately a week before the listening session.

Done at Washington, DC, May 30, 2017.
Sonny Ramaswamy,
Director, National Institute of Food and Agriculture.

[FR Doc. 2017-11554 Filed 6-2-17; 8:45 am]

BILLING CODE 3410-22-P